DEPARTMENT OF ENERGY

Federal Energy Regulatory Commission

[Docket No. EL09-45-000]

Old Dominion Electric Cooperative, Complainant, v. Northern Virginia Electric Cooperative and PJM Interconnection, L.L.C., Respondents; Notice of Complaint

April 6, 2009.

Take notice that on April 3, 2009, pursuant to section 206 of the Commission's Rules and Practice and Procedure, 18 CFR 385.206 and sections 206 and 306 of the Federal Power Act, 16 U.S.C. 824(e) and 825(e), Old Dominion Electric Cooperative (Complainant) filed a formal complaint against Northern Virginia Electric Cooperative (NOVEC) and PJM Interconnection, L.L.C. (PJM) requesting that the Commission (1) Determine and rule that section 3.5 of the Termination Agreement among the Complainant, NOVEC, New Dominion Energy Cooperative and TEC Trading, Inc. obligates NOVEC to seek an annual allocation of Auction Revenue Rights from PJM that is no more than a 28 percent share of Complainant's capacity resources as specified in Exhibit N to the Termination Agreement, (2) direct PJM to implement that provision of the Termination Agreement consistent with the Commission's determination, and (3) provide for conditional relief.

The Complainant has requested fast track processing of the complaint.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 23, 2009.

Kimberly D. Bose,
Secretary.

[FR Doc. E9-8238 Filed 4-9-09; 8:45 am]

BILLING CODE 6717-01-P